DEPARTMENT OF ENERGY

Federal Energy Regulatory Commission

[Project Nos. 1932-004, 1933-010, and 1934-010]

Southern California Edison Company; Notice of Site Visit

April 14, 2000.

Take notice that on May 15 and 16, 2000 the Commission staff will visit the Lytle Creek Hydroelectric Project No. 1932, the Santa Ana River Hydroelectric Project No. 1933, and the Mill Creek 2/3 Hydroelectric Project No. 1934, to view the projects' area. The projects are located near the city of Redlands in San Bernardino County, California. All interested individuals, organizations, and agencies are invited to accompany the Commission staff on the site visit.

On May 15, the participants will meet at 4:00 p.m. at the U.S. forest Service's Lytle Creek Ranger Station (lowest part of the public parking lot), located in Lytle Creek canyon. On May 16, the participants will meet at 9:00 a.m. at the U.S. Army Corps of Engineers Seven Oaks Dam parking lot, located in the Santa Ana River canyon, near East Highlands. Those interested in participating should contact Mr. Darrell Heinrich at (909) 307-6801 in advance. Participants should provide their own transportation for the site visit; four-wheel-drive vehicles are recommended. Further, for the May 16 site visit, participants should bring their own lunches, water, and boots.

For further information, please contact Jon Cofrancesco at (202) 219-0079.

David P. Boergers,
Secretary.

[FR Doc. 00-10095 Filed 4-21-00; 8:45 am]

BILLING CODE 6717-01-M